DEPARTMENT OF HOMELAND SECURITY

Office of the Secretary

[Docket No. DHS-2015-0084]

Privacy Act of 1974; Computer Matching Program

AGENCY: U.S. Citizenship and Immigration Services, Department of Homeland Security.

ACTION: Notice of Re-established Computer Matching Program.

SUMMARY: This document provides notice of the existence of a computer matching program between the Department of Homeland Security, U.S. Citizenship and Immigration Services and the California Department of Social Services, titled “Verification Division DHS-USCIS/CA-DSS.”

DATES: The dates of the matching program are from January 27, 2016, and continuing for 18 months through July 26, 2017. The matching program may be extended for up to an additional 12 months, if certain conditions are met.

ADDRESSES: Address for Receipt of Public Comments or Inquires: Individuals wishing to provide comments or obtain additional information about this computer matching program, including a copy of the Computer Matching Agreement between the Department of Homeland Security/USCIS and CA-DSS, may contact, for general questions: Donald K. Hawkins, (202) 272-8030, Privacy Officer, U.S. Citizenship and Immigration Services, Department of Homeland Security 20 Massachusetts Avenue NW., Washington, DC 20529. For privacy questions, please contact: Karen L. Neuman, (202) 343-1717, Chief Privacy Officer, Privacy Office, Department of Homeland Security, Washington, DC 20528.

SUPPLEMENTARY INFORMATION: The Department of Homeland Security, U.S. Citizenship and Immigration Services provides this notice in accordance with the Privacy Act of 1974 (5 U.S.C. 552a), as amended by the Computer Matching and Privacy Protection Act of 1988 (Pub. L. 100-503) and the Computer Matching and Privacy Protection Amendments of 1990 (Pub. L. 101-508) (Privacy Act); Office of Management and Budget (OMB) Final Guidance Interpreting the Provisions of Public Law 100-503, the Computer Matching and Privacy Protection Act of 1988, 54 FR 25818 (June 19, 1989); and OMB Circular A-130, Appendix I, 65 FR 77677 (December 12, 2000).

PARTICIPATING AGENCIES:

The Department of Homeland Security, U.S. Citizenship and Immigration Services (DHS-USCIS) is the source agency and the California Department of Social Services (CA-DSS) is the recipient agency.

AUTHORITY FOR CONDUCTING THE MATCHING PROGRAM:

Section 121 of the Immigration Reform and Control Act (IRCA) of 1986, Public Law 99-603, as amended by the Personal Responsibility and Work Opportunity Reconciliation Act of 1996 (PRWORA), Public Law 104-193, 110 Stat. 2168 (1996), requires DHS to establish a system for the verification of immigration status of alien applicants for, or recipients of, certain types of benefits as specified within IRCA, and to make this system available to state agencies that administer such benefits. Section 121(c) of IRCA amends Section 1137 of the Social Security Act and other sections of law that pertain to federal entitlement benefit programs. Section 121(c) requires state agencies administering these programs to use DHS-USCIS's verification system to make eligibility determinations in order to prevent the issuance of benefits to ineligible alien applicants. The VIS database is the DHS-USCIS system available to the CA-DSS and other covered agencies for use in making these eligibility determinations.

CA-DSS will access information contained in VIS for the purpose of confirming the immigration status of alien applicants for, or recipients of, benefits it administers in order to discharge its obligation to conduct such verifications pursuant to Section 1137 of the Social Security Act (42 U.S.C. 1320b-7(a), et seq.). Verification of applicants for Food Stamps through DHS/USCIS is optional for CA-DSS under Section 840 of PWORA. CA-DSS has elected to use VIS for all alien applicants for Food Stamps for the length of this Agreement.

PURPOSE OF THE MATCHING AGREEMENT:

This Computer Matching Agreement provides the CA-DSS with electronic access to immigration status information contained within DHS-USCIS's Verification Information System (VIS). CA-DSS uses the immigration status information to determine whether an applicant is eligible for benefits under Temporary Assistance to Needy Families (TANF) and Supplemental Nutrition Assistance Program (SNAP) programs administered by the CA-DSS.

CATEGORIES OF INDIVIDUALS:

DHS-USCIS will provide the following to CA-DSS: Records in the DHS-USCIS VIS database containing information related to the status of aliens and other persons on whom DHS-USCIS has a record as an applicant, petitioner, or beneficiary.

CA-DSS will provide the following to DHS-USCIS: CA-DSS records pertaining to alien and naturalized/derived United States citizen applicants for, or recipients of, entitlement benefit programs administered by the State.

CATEGORIES OF RECORDS:

CA-DSS will match the following records with DHS-USCIS records:

• Alien Registration Number (A-Number)

• I-94 Number

• Last Name

• First Name

• Middle Name

• Date of Birth

• Nationality

• Social Security number (SSN)

DHS-USCIS will match the following records with CA-DSS records:

• A-Number

• I-94 Number

• Last Name

• First Name

• Middle Name

• Date of Birth

• Country of Birth (not nationality)

• SSN (if available)

• Date of Entry

• Immigration Status Data

• Sponsorship Information (sponsor's full name, SSN, and address)

SYSTEM OF RECORDS:

DHS/USCIS-004 Systematic Alien Verification for Entitlements Program System of Records Notice, 77 FR 47415 (August 8, 2012).

Dated: December 16, 2015.
Karen L. Neuman
Chief Privacy Officer, Department of Homeland Security.

[FR Doc. 2015-32149 Filed 12-21-15; 8:45 am]

BILLING CODE 9111-97-P